DEPARTMENT OF COMMERCE

National Oceanic and Atmospheric Administration

50 CFR Part 679

[RTID 0648-XD632]

Fisheries of the Exclusive Economic Zone Off Alaska; Essential Fish Habitat Amendments

AGENCY: National Marine Fisheries Service (NMFS), National Oceanic and Atmospheric Administration (NOAA), Commerce.

ACTION: Notification of availability of fishery management plan amendments; request for comments.

SUMMARY: The North Pacific Fishery Management Council (Council) submitted amendment 127 to the Fishery Management Plan (FMP) for Groundfish of the Bering Sea and Aleutian Islands Management Area (BSAI), amendment 115 to the FMP for Groundfish of the Gulf of Alaska (GOA), amendment 56 to the FMP for BSAI King and Tanner Crabs, amendment 17 to the FMP for the Salmon Fisheries in the exclusive economic zone (EEZ) Off Alaska, and amendment 3 to the FMP for Fish Resources of the Arctic Management Area (amendments) to the Secretary of Commerce for review. If approved, these amendments would revise the FMPs by updating the description and identification of essential fish habitat (EFH) and updating information on adverse impacts to EFH based on the best scientific information available. These amendments are intended to promote the goals and objectives of the Magnuson-Stevens Fishery Conservation and Management Act (Magnuson-Stevens Act), the FMPs, and other applicable laws.

DATES: Comments on the amendments must be received no later than June 24, 2024.

ADDRESSES: You may submit comments on this document, identified by NOAA-NMFS-2023-0160, by any of the following methods:

• Electronic Submission: Submit all electronic public comments via the Federal e-Rulemaking Portal. Go to https://www.regulations.gov and enter [NOAA-NMFS-2023-0160] in the Search box (note: copying and pasting the FDMS Docket Number directly from this document may not yield search results). Click on the “Comment” icon, complete the required fields, and enter or attach your comments.

• Mail: Submit written comments to Gretchen Harrington, Assistant Regional Administrator, Sustainable Fisheries Division, Alaska Region NMFS, Attn: Records Office. Mail comments to P.O. Box 21668, Juneau, AK 99802-1668.

• Instructions: Comments sent by any other method, to any other address or individual, or received after the end of the comment period, may not be considered by NMFS. All comments received are a part of the public record and will generally be posted for public viewing on https://www.regulations.gov without change. All personal identifying information (e.g., name, address), confidential business information, or otherwise sensitive information submitted voluntarily by the sender will be publicly accessible. NMFS will accept anonymous comments (enter “N/A” in the required fields if you wish to remain anonymous).

Electronic copies of the amendments, maps of the EFH areas, and the Environmental Assessment (the analysis) prepared for this action may be obtained from https://www.regulations.gov.

FOR FURTHER INFORMATION CONTACT: Megan Mackey, 907-586-7228.

SUPPLEMENTARY INFORMATION: The Magnuson-Stevens Act requires that each regional fishery management council submit any FMP amendment it prepares to NMFS for review and approval, disapproval, or partial approval by the Secretary of Commerce (Secretary). The Magnuson-Stevens Act also requires that NMFS, upon receiving an FMP amendment, immediately publish a notice in the Federal Register announcing that the amendment is available for public review and comment. The Council has submitted these amendments to the Secretary for review. This notice announces that proposed amendment 127 to the FMP for Groundfish of the BSAI (BSAI Groundfish FMP); proposed amendment 115 to the FMP for Groundfish of the GOA (GOA Groundfish FMP); proposed amendment 56 to the FMP for BSAI King and Tanner Crabs (Crab FMP); proposed amendment 17 to the FMP for the Salmon Fisheries in the EEZ Off Alaska (Salmon FMP); and proposed amendment 3 to the FMP for Fish Resources of the Arctic Management Area (Arctic FMP) are available for public review and comment.

The Council prepared the FMPs under the authority of the Magnuson-Stevens Act. Regulations governing U.S. fisheries and implementing the FMPs appear at 50 CFR parts 600, 679, and 680. Section 303(a)(7) of the Magnuson-Stevens Act requires that each FMP describe and identify EFH, minimize to the extent practicable the adverse effects of fishing on EFH, and identify other measures to encourage the conservation and enhancement of EFH. Section 3(10) of the Magnuson-Stevens Act defines EFH as “those waters and substrate necessary to fish for spawning, breeding, feeding, or growth to maturity.” Implementing regulations at 50 CFR 600.815 list the EFH contents required in each FMP and direct councils to conduct a complete review of all EFH information at least once every 5 years (referred to here as “the 5-year review”).

The Council developed the amendments as a result of new scientific information made available through the 5-year review that began in 2019 (2023 5-year review) and adopted the amendments in December 2023. The 2023 5-year review is the Council's fourth review of EFH in the FMPs. Prior 5-year reviews were completed in 2005, 2012, and 2018. The Council recommended amendments to the description and identification of EFH in the FMPs with new information and improved mapping as described in the draft EFH 5-year Summary Report for the 2023 5-year review. The Council also recommended updates to EFH information based on the best available information in the Summary Report. The Council recommended updates to EFH for all FMPs except for the Scallop FMP because no new information is available to update EFH descriptions for scallops.

The amendments would make the following changes to the FMPs:

• BSAI Groundfish FMP, GOA Groundfish FMP, Crab FMP, and Arctic FMP: update EFH descriptions and maps, including up to EFH Level 3 information on habitat-related vital rates (see 50 CFR 600.815(a)(1)(iii)(A)). Add or revise the EFH text descriptions and add or replace the maps for—

○ 41 species or complexes in the BSAI Groundfish FMP;

○ 46 species or complexes in the GOA Groundfish FMP;

○ all five species in the Crab FMP; and

○ all three species in the Arctic FMP.

• Salmon FMP: replace the distribution maps for all five species with the EFH maps.

• BSAI Groundfish FMP, GOA Groundfish FMP, and Crab FMP: changes based on the updated information for fishing effects (FE) to reflect updates to the FE model, analysis, and evaluation.

• BSAI Groundfish FMP, GOA Groundfish FMP, Crab FMP, and Arctic FMP: revise the EFH appendices where conservation recommendations for non-fishing activities are described.

• BSAI Groundfish FMP, GOA Groundfish FMP, and Crab FMP: revise prey species descriptions for two species of BSAI sharks, BSAI pollock, GOA Pacific cod, and BSAI red king crab.

• BSAI Groundfish FMP, GOA Groundfish FMP, Crab FMP, and Arctic FMP: revise EFH appendices with updated research and information needs.

NMFS is soliciting public comments on the proposed amendments through the end of the comment period (see DATES). All relevant written comments received by the end of the applicable comment period will be considered by NMFS in the approval/partial approval/disapproval decision for the amendments and addressed in the response to comments in the final decision. Comments received after end of the applicable comment period will not be considered in the approval/partial approval/disapproval decision on the amendments. To be considered, comments must be received, not just postmarked or otherwise transmitted, by the last day of the comment period (see DATES).

Authority: 16 U.S.C. 1801 et seq.

Dated: April 18, 2024.
Everett Wayne Baxter,
Acting Director, Office of Sustainable Fisheries, National Marine Fisheries Service.

[FR Doc. 2024-08629 Filed 4-22-24; 8:45 am]

BILLING CODE 3510-22-P